FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than December 13, 2013.

A. Federal Reserve Bank of Atlanta (Chapelle Davis, Assistant Vice President) 1000 Peachtree Street NE., Atlanta, Georgia 30309:

1. James Brian Ponder, Melissa Kay Ponder, Kenneth Earl Ponder, June Sumner Ponder, Beverly Ponder Paulk, all of Tifton, Georgia, Marlyn Jones Ponder, and Earline Ponder, individually and as trustee for April Farron Paulk Trust, Jessica Shannon Paulk Trust, Cyrus Jones Ponder Trust, Marilyn Elisabeth Ponder Trust, Victoria Lorriane Ponder Trust, Ponder-Tolbert Trust No. II, Ona Tolbert Family Trust, Earl Tolbert Family Trust, and Ona Tolbert Family Trust No. II, all of Omega, Georgia; to retain voting shares of South Georgia Bank Holding Company, and thereby indirectly retain voting shares of South Georgia Banking Company, both in Omega, Georgia.

Board of Governors of the Federal Reserve System, November 22, 2013.
Michael J. Lewandowski,
Associate Secretary of the Board.

[FR Doc. 2013-28431 Filed 11-26-13; 8:45 am]

BILLING CODE 6210-01-P